DEPARTMENT OF DEFENSE

Department of the Army, Corps of Engineers

Request for Project Proposals Pursuant to Section 165 of the Water Resources Development Act of 2020, Pilot Program for Continuing Authority Projects in Small or Disadvantaged Communities

AGENCY: U.S. Army Corps of Engineers, Department of the Army, DoD.

ACTION: Notice; request for pilot project proposals.

SUMMARY: Section 165 of the Water Resources Development Act of 2020 directs the Secretary of the Army to implement a pilot program for carrying out projects under a continuing authority program for economically disadvantaged communities at 100% Federal cost. The Department of the Army is requesting pilot project proposals. The Secretary is authorized to select up to 20 pilot projects.

DATES: Proposals are to be submitted no later than August 21, 2023.

ADDRESSES: You may submit proposals in writing using any of these methods:

• Mail: HQ, U.S. Army Corps of Engineers, ATTN: Ms. Amy Babey, at 441 G Street NW, Washington, DC 20314.

• Email: wrda20cap165a@usace.army.mil. Please include Section 165 Project Proposal in the subject line of the message.

Due to security requirements, we cannot receive proposals by hand delivery or courier.

FOR FURTHER INFORMATION CONTACT: Ms. Amy Babey at wrda20cap165a@usace.army.mil or by phone at 502-645-7199.

SUPPLEMENTARY INFORMATION: Section 165 of the Water Resources Development Act of 2020 requires the Secretary to implement a pilot program for carrying out up to 20 projects under a continuing authority program for economically disadvantaged communities at 100 percent Federal cost. Additional information on the section 165 pilot program can be found in the Assistant Secretary of the Army for Civil Works (ASA(CW)) policy guidance issued on 12 June 2023. A copy of the guidance can be obtained at https://www.usace.army.mil/Missions/Civil-Works/Project-Planning/Legislative-Links/wrda_2020/.

The term “economically disadvantaged community” means as defined in the ASA(CW) memorandum, Implementation Guidance for Section 160 of the Water Resources Development Act of 2020, Definition of Economically Disadvantaged Community, dated 14 March 2023. A copy of the guidance can be obtained at https://usace.contentdm.oclc.org/utils/getfile/collection/p16021coll5/id/36002.

The term “continuing authority program” (CAP) means any of the following:

1. Section 14 of the Flood Control Act of 1946 (33 U.S.C. 701r).

2. Section 3 of the Act of August 13, 1946 (33 U.S.C. 426g). This authority is commonly identified as “Section 103” by the U.S. Army Corps of Engineers (USACE).

3. Section 107 of the River and Harbor Act of 1960 (33 U.S.C. 577).

4. Section 111 of the River and Harbor Act of 1968 (33 U.S.C. 426i).

5. Section 204 of the Water Resources Development Act of 1992 (33 U.S.C. 2326).

6. Section 205 of the Flood Control Act of 1948 (33 U.S.C. 701s).

7. Section 206 of the Water Resources Development Act of 1996 (33 U.S.C. 2330).

8. Section 2 of the Act of August 28, 1937 (33 U.S.C. 701g). This authority is commonly identified as “Section 208” by USACE.

9. Section 1135 of the Water Resources Development Act of 1986 (33 U.S.C. 2309a).

Notwithstanding the cost share authorized for the applicable CAP section, pursuant to section 165(a), the Federal share of the cost of a project selected under this authority shall be 100 percent. Therefore, the maximum total Federal cost of a project implemented under Section 165(a) will be the sum of the applicable statutory per project Federal participation limit (see table below) plus the amount that the non-Federal interest would pay as its cost share.

Authority | Statutory per project federal participation limit
Section 14 | $10,000,000
Section 103 | 10,000,000
Section 107 | 10,000,000
Section 111 | 12,500,000
Section 204 | 10,000,000
Section 205 | 10,000,000
Section 206 | 10,000,000
Section 208 | 500,000
Section 1135 | 10,000,000

Non-Federal Interest Requirements

1. Provide all required lands, easements, rights-of-way, relocations, and disposal areas (LERRDs) required for the project.

2. Perform and pay for all costs associated with any required hazardous, toxic, and radioactive wastes (HTRW) cleanup and response in, on, or under any real property interest required for the project.

3. Operate and maintain the project at full non-Federal expense (except for a project for commercial navigation).

4. Hold and save the United States free from all damages arising from the project that are not due to the fault or negligence of the United States or its contractors.

5. For a project for navigation, provide all required local service facilities.

6. Pay all costs of planning, design, and construction that exceed the sum of the statutory per project Federal participation limit for the applicable CAP section plus the amount that the non-Federal interest would normally provide as its cost share.

Project Proposals

All information provided in a proposal is public information. Therefore, information that is confidential business information, information that should not be disclosed because of statutory restrictions, or other information that a non-Federal interest would not want to appear publicly should not be included in the submittal. Proposals to convert an active CAP or specifically authorized study or project to a Section 165 pilot program study or project will not be considered. The authority to initiate a project under the pilot program terminates on December 27, 2030.

Entities submitting proposals for a project must include the following information:

1. Name, location, and description of the proposed project.

2. Description of the Economically Disadvantaged Community. The proposal must include a map and a narrative description of the economically disadvantaged community that will be benefited by the proposed project. The narrative description must include sufficient information to validate the community's classification as economically disadvantaged. The narrative must also describe the type and complexity of the urbanization in the community and identify any existing infrastructure in the community that is related to the purpose of the proposed project.

3. Description of the non-Federal interest for the proposed project. The description must include sufficient information to validate the non-Federal interest's eligibility as an applicant for the pilot program.

4. A letter of intent to partner with USACE in conducting a study, completing a design, constructing the project, and the long-term operation and maintenance of the constructed project. The letter of intent must include information demonstrating the non-Federal interest ability to be a partner in the study and project.

5. Description of the need for the proposed project and what the project would provide to the disadvantaged community.

6. For a project for flood risk management or coastal storm risk management (CSRM) purposes, the proposal must include a description of the history of flooding and the population at risk in the economically disadvantaged community. The narrative should include the dates of flood events and describe the property damages and life loss attributable to each event. It should also include a qualitative description or range of how deep the water was and how fast it was flowing. The description should identify any characteristics of the population that have a bearing on risk, such as the total number of people subject to flooding or a coastal storm, low per capita income, or unemployment rate above the national average.

7. A proposal for a project for CSRM purposes must include assurance of local willingness and capability to establish conditions of public use and access to beaches and shores. The proposal must identify whether the proposed project may result in a CSRM project that benefits beaches or shores the majority of which are private. In such cases, the applicant must provide assurance in the proposal that it is capable and willing to establish sufficient conditions of public use and access as a condition of Federal financial participation in a project.

8. For a project for ecosystem restoration, the proposal must describe the degraded habitat targeted for restoration and the causes of the degradation. Regionally and nationally significant habitat or natural resources should be identified.

9. For a project under section 14, the proposal must describe the ownership and function of the facility to be protected and the nature of the damage caused by flooding adjacent to the facility.

10. For a project under section 111, the proposal must describe the shoreline damage and identify the Federal navigation project responsible for the damage.

11. For a project for commercial navigation under Section 107, the proposal must describe existing facilities, vessel traffic, and the navigation problem the proposed project will address.

Michael L. Connor,
Assistant Secretary of the Army (Civil Works).

[FR Doc. 2023-13144 Filed 6-20-23; 8:45 am]

BILLING CODE 3720-58-P